DEPARTMENT OF ENERGY

Federal Energy Regulatory Commission

[Docket No. ER02-2001-000]

Electric Quarterly Reports; Revised Public Utility Filing Requirements Docket No. RM01-8-000; Notice of Extension of Time

January 17, 2003.

On December 19, 2002, the Commission issued Order 2001-C, specifying details about the requirement for utilities to file a list of conforming contracts (as mandated in Order 2001) and requiring future Electric Quarterly Reports to be filed using the new Electric Quarterly Report Submission Software. Both the list of conforming contracts and the fourth quarter Electric Quarterly Report are due to be filed on or before January 31, 2003.

Numerous filers have requested an extension of time in order to compile the required data and adjust to the new software requirements. In consideration of this situation, notice is hereby given that the time to file the list of conforming contracts and the fourth quarter 2002 Electric Quarterly Report is extended to and including February 14, 2003.

Magalie R. Salas,
Secretary.

[FR Doc. 03-1614 Filed 1-23-03; 8:45 am]

BILLING CODE 6717-01-P